POSTAL REGULATORY COMMISSION

International Mail Briefing

AGENCY: Postal Regulatory Commission.

ACTION: Notice of briefing.

SUMMARY: Representatives of U.S. regulators and the private sector will present a briefing on Wednesday, August 1, 2007, beginning at 11:30 a.m., in the Postal Regulatory Commission's main conference room. The briefing will address issues raised by the sale of financial services by international postal operators.

DATES: August 1, 2007.

ADDRESSES: Postal Regulatory Commission, 901 New York Avenue, NW., Suite 200, Washington, DC 20268-0001.

FOR FURTHER INFORMATION CONTACT: Stephen L. Sharfman, General Counsel, Postal Regulatory Commission, 202-789-6820 and stephen.sharfman@prc.gov.

Garry J. Sikora,
Acting Secretary.

[FR Doc. 07-3761 Filed 7-31-07; 8:45 am]

BILLING CODE 7710-FW-M